NUCLEAR REGULATORY COMMISSION

Advisory Committee on the Medical Uses of Isotopes; Call for Nominations

AGENCY: Nuclear Regulatory Commission.

ACTION: Call for nominations.

SUMMARY: The U.S. Nuclear Regulatory Commission (NRC) is advertising for nominations for the Nuclear Medicine Physician position and the Patients' Rights Advocate position on the Advisory Committee on the Medical Uses of Isotopes (ACMUI). Nuclear Medicine Physician nominees should currently be practicing nuclear medicine in a clinical setting. Patients' Rights Advocate nominees should have professional or personal experience with or knowledge about patient advocacy. Also, involvement or leadership with patient advocacy organizations is preferred.

DATES: Nominations are due on or before April 22, 2019.

NOMINATION PROCESS: Submit an electronic copy of resume or curriculum vitae, along with a cover letter, to Ms. Kellee Jamerson, Kellee.Jamerson@nrc.gov. The cover letter should describe the nominee's current involvement with patients' rights advocacy and express the nominee's interest in the position. Please ensure that the resume or curriculum vitae includes the following information, if applicable: education; certification; professional association membership and committee membership activities; and number of years, timeframe, and type of setting for patient advocacy.

FOR FURTHER INFORMATION CONTACT: Ms. Kellee Jamerson, U.S. Nuclear Regulatory Commission, Office of Nuclear Material Safety and Safeguards; (301) 415-7408; Kellee.Jamerson@nrc.gov.

SUPPLEMENTARY INFORMATION: The ACMUI Nuclear Medicine Physician provides advice to the NRC staff on ideas associated with the regulation of diagnostic and therapeutic applications of byproduct material. This advice includes providing input on the NRC's proposed rules and guidance documents; providing recommendations on the training and experience requirements for physicians specializing in diagnostic and therapeutic nuclear medicine; identifying medical events associated with these uses; evaluating non-routine medical uses of byproduct material; bringing key issues in the nuclear medicine community to the attention of the NRC staff; and other nuclear medicine issues as they relate to radiation safety and the NRC Medical-Use Policy Statement.

The ACMUI Patients' Rights Advocate provides advice to the NRC staff on patients' issues associated with the regulation of medical applications of byproduct material. This advice includes ensuring patients' rights are represented during the development and implementation of the NRC's medical-use regulations. This individual is appointed based on his or her professional and personal experience with and/or knowledge about patient advocacy, as well as involvement and/or leadership with patient advocacy organizations.

ACMUI members are selected based on their educational background, certification(s), work experience, involvement and/or leadership in professional society activities, and other information obtained in letters or during the selection process. Nominees should have the demonstrated ability to establish effective work relationships with peers and implement successful approaches to problem solving and conflict resolution. ACMUI members currently serve a four-year term and may be considered for reappointment to an additional term. The current ACMUI membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; (k) health care administrator; and (l) diagnostic radiologist. For additional information about membership on the ACMUI, visit the ACMUI Membership web page, http://www.nrc.gov/about-nrc/regulatory/advisory/acmui/membership.html.

Nominees must be U.S. citizens and be able to devote approximately 160 hours per year to ACMUI business. Members are expected to attend semi-annual meetings in Rockville, Maryland and to participate in teleconferences, as needed. Members who are not Federal employees are compensated for their service. In addition, members are reimbursed for travel (including per diem in lieu of subsistence) and are reimbursed secretarial and correspondence expenses. Full-time Federal employees are reimbursed for travel expenses only.

Security Background Check: The selected nominee will undergo a thorough security background check. Security paperwork may take the nominee several weeks to complete. Nominees will also be required to complete a financial disclosure statement to avoid conflicts of interest.

Dated at Rockville, Maryland this 13th day of February, 2019.
For the Nuclear Regulatory Commission.
Russell E. Chazell,
Federal Advisory Committee Management Officer.

[FR Doc. 2019-02721 Filed 2-19-19; 8:45 am]

BILLING CODE 7590-01-P